DEPARTMENT OF AGRICULTURE

Forest Service

Newspapers Used for Publication of Legal Notices by the Pacific Northwest Region, Oregon, Washington, and Parts of California

AGENCY: Forest Service, Agriculture (USDA).

ACTION: Notice of newspapers of record.

SUMMARY: This notice lists the newspapers that will be used by the ranger districts, national forests, and the regional office of the Pacific Northwest Region to publish legal notices required under the Code of Federal Regulations (CFR). The intended effect of this action is to inform interested members of the public which newspapers the Forest Service will use to publish notices of proposed actions and notices of decision. This will provide the public with constructive notice of Forest Service proposals and decisions; provide information on the procedures to comment, object or appeal; and establish the date that the Forest Service will use to determine if comments or appeals/objections were timely.

DATES: The list of newspapers will remain in effect for one year from the date of publication when another notice will be published in the Federal Register.

ADDRESSES: Christine Pyle, Program Specialist, Pacific Northwest Region, 1220 Southwest Third Avenue, Portland, OR 97204.

FOR FURTHER INFORMATION CONTACT: Christine Pyle, Program Specialist, Pacific Northwest Region, by telephone at 971-245-0269 or by email at Christine.pyle@usda.gov.

SUPPLEMENTARY INFORMATION: The administrative procedures at 36 CFR 214, 218, and 219 require the Forest Service to publish notices in a newspaper of general circulation. The content of the notices is specified in 36 CFR 214, 218, and 219. In general, the notices will identify: the decision or project by title or subject matter; the name and title of the official making the decision; how to obtain additional information; and where and how to file comments or appeals/objections. The date the notice is published will be used to establish the official date for the beginning of the comment or appeal/objection period.

The newspapers to be used are as follows:

Regional Forester, Pacific Northwest Region

Regional Forester decisions affecting National Forests in Oregon: The Oregonian.

Regional Forester decisions affecting National Forests in Washington: The Seattle Times.

Regional Forester decisions that affect all National Forests and Grasslands in the Pacific Northwest Region: The Oregonian and The Seattle Times.

Columbia River Gorge Scenic Area

Columbia River Gorge Area Manager/Forest Supervisor decisions: Columbia Gorge News.

Colville National Forest

Colville Forest Supervisor decisions: Statesman-Examiner.

Three Rivers District Ranger decisions: Statesman-Examiner.

Tonasket District Ranger decisions: The Omak-Okanogan County Chronicle.

Sullivan Lake District Ranger decisions: The Newport Miner.

Republic District Ranger decisions: Ferry County View.

Deschutes National Forest

Deschutes Forest Supervisor, District Ranger, and Redmond Air Center Manager decisions: The Bulletin.

Fremont-Winema National Forest

Fremont-Winema Forest Supervisor and District Ranger decisions: Herald and News.

Gifford Pinchot National Forest

Gifford Pinchot Forest Supervisor and Mount Saint Helens National Volcanic Monument decisions: The Columbian.

Cowlitz Valley District Ranger decisions: The Chronicle.

Malheur National Forest

Malheur Forest Supervisor, Blue Mountain District Ranger, and Prairie City District Ranger decisions: Blue Mountain Eagle.

Emigrant Creek District Ranger decisions: Burns Times Herald.

Mt. Baker-Snoqualmie National Forest

Mt. Baker-Snoqualmie Forest Supervisor, Darrington District Ranger, and Skykomish District Ranger decisions: Everett Herald.

Mt. Baker District Ranger decisions that encompass the southern half of the district: Skagit Valley Herald.

Mt. Baker District Ranger decisions that encompass the northern half of the district: Bellingham Herald.

Snoqualmie District Ranger decisions that encompass the northern half of the district: Snoqualmie Valley Record.

Snoqualmie District Ranger decisions that encompass the southern half of the district: Enumclaw Courier Herald.

Mt. Hood National Forest

Mt. Hood Forest Supervisor and District Ranger decisions: The Oregonian.

Ochoco National Forest and Crooked River National Grassland

Ochoco Forest Supervisor and District Ranger decisions: The Bulletin.

Okanogan-Wenatchee National Forest

Okanogan-Wenatchee Forest Supervisor, Chelan District Ranger, Entiat, and Wenatchee River District Ranger decisions: The Wenatchee World.

Naches District Ranger decisions: Yakima Herald.

Methow Valley District Ranger decisions: Methow Valley News.

Cle-Elum District Ranger decisions: Ellensburg Daily Record.

Olympic National Forest

Olympic Forest Supervisor and District Ranger decisions: The Olympian.

Rogue River-Siskiyou National Forest

Rogue River-Siskiyou Forest Supervisor, High Cascades District Ranger, J. Herbert Stone Nursery Manager, and Siskiyou Mountains District Ranger decisions: Rogue Valley Times.

Wild Rivers District Ranger decisions: Grants Pass Daily Courier.

Powers District Ranger decisions: The World.

Siuslaw National Forest

Siuslaw Forest Supervisor decisions: Corvallis Gazette-Times.

Central Coast Ranger District Ranger and Oregon Dunes National Recreation Area District Ranger decisions: The Register-Guard.

Hebo District Ranger decisions: Tillamook Headlight Herald.

Umatilla National Forest

Umatilla Forest Supervisor and District Ranger decisions: East Oregonian.

Umpqua National Forest

Umpqua Forest Supervisor and District Ranger decisions: The News-Review.

Wallowa-Whitman National Forest

Wallowa-Whitman Forest Supervisor and Whitman District Ranger decisions: Baker City Herald.

La Grande District Ranger decisions: The Observer.

Hells Canyon National Recreation Area Manager, Eagle Cap District Ranger, and Wallowa Valley District Ranger decisions: Wallowa County Chieftain.

Willamette National Forest

Willamette Forest Supervisor, Middle Fork District Ranger, McKenzie River District Ranger, and Sweet Home District Ranger decisions: The Register-Guard.

Detroit District Ranger decisions: Statesman Journal.

Dated: March 29, 2024.
Troy Heithecker,
Associate Deputy Chief, National Forest System.

[FR Doc. 2024-07120 Filed 4-3-24; 8:45 am]

BILLING CODE 3411-15-P